DEPARTMENT OF THE INTERIOR

Fish and Wildlife Service

[FWS-HQ-R-2013-N273FXFR13350900000-134-FF09F14000]

Classroom Guidelines for Preventing the Introduction and Spread of Aquatic Invasive Species (AIS)

AGENCY: Fish and Wildlife Service, Interior.

ACTION: Notice of availability.

SUMMARY: The U.S. Fish and Wildlife Service (Service), announces the availability of the Classroom Guidelines for Preventing the Introduction and Spread of Aquatic Invasive Species (AIS). These voluntary guidelines are intended to be used by agencies and organizations to develop materials that inform educators and students about the risks of spreading aquatic invasive species, and to limit their spread via the disposal of unwanted live educational specimens (animals, plants, and microorganisms) into local waters, including release into drains or flushing down toilets.

DATES: To ensure consideration, please send your written comments by July 16, 2014.

ADDRESSES: The guidelines may be obtained online, by U.S. mail, or by email:

• Online: http://anstaskforce.gov/documents.php;

• U.S. mail: Laura Norcutt, U.S. Fish and Wildlife Service, Branch of Aquatic Invasive Species, 4401 N. Fairfax Drive, Room 740, Arlington, VA 22203; or

• Email: Laura_Norcutt@fws.gov.

Submitting Comments: Please submit your comments in writing by one of the following methods:

• U.S. mail: U.S. Fish and Wildlife Service, Branch of Aquatic Invasive Species, 4401 N. Fairfax Drive, Room 740, Arlington, VA 22203; or

• Email: Laura_Norcutt@fws.gov.

FOR FURTHER INFORMATION CONTACT: Laura Norcutt, 703-358-2398.

SUPPLEMENTARY INFORMATION:

Background

Through the Lacey Act (18 U.S.C. 42), the U.S. Fish and Wildlife Service (Service) regulates the importation and interstate transport of certain aquatic invasive species that have been determined to be injurious. The Nonindigenous Aquatic Nuisance Prevention and Control Act of 1990 (16 U.S.C. 4701 et seq.) established the Aquatic Nuisance Species Task Force (ANSTF), an intergovernmental organization co-chaired by the Service and the National Oceanic and Atmospheric Administration and dedicated to preventing and controlling the spread of aquatic nuisance species.

Development of the Guidelines

In 2011 the ANSTF established a committee to develop guidelines that would help to prevent the spread of aquatic invasive species through the disposal of unwanted live educational specimens (animals, plants, and microorganisms) into local waters and municipal water systems. The goal of the committee was to develop clear, easy-to-use standardized national guidelines that are easily communicated to educators and students and can be incorporated into education and outreach media. An additional benefit to educators and students who follow these guidelines is to avoid possible violation of Federal, Tribal, and State laws that prohibit the transport or release of aquatic invasive species. The committee's product, a document titled Classroom Guidelines for Preventing the Introduction and Spread of Aquatic Invasive Species (AIS), will provide concise useable guidelines for agencies, and organizations to develop materials that inform educators and students about the risks of spreading aquatic invasive species.

Preparing Final Documents

Because these documents are guidance only, there is no requirement to provide the public with an opportunity to submit comments. However, we are opening a comment period to receive information and comments that may be useful for future versions of the guidelines.

Request for Public Comments

The guidelines are available on the ANSTF Web site (see ADDRESSES) for public review and comment.

We invite review and comment on our guidelines from local, State, Tribal, and Federal agencies, and from the public. All comments received by the date specified in DATES will be considered in preparing final documents. Methods of submitting comments are in ADDRESSES.

Public Availability of Comments

Before including your address, phone number, email address, or other personal identifying information in your comment, you should be aware that your entire comment—including your personal identifying information—may be made publicly available at any time. You can ask the Service in your comment to withhold your personal identifying information from public review; however, we cannot guarantee that we will be able to do so.

Responses to individual commenters will not be provided, but we will provide a summary of the comments we receive and a summary of how we addressed substantive comments in a document on the ANSTF Web site listed above in ADDRESSES. Individuals may request an appointment to inspect the comments during normal business hours at our office (see ADDRESSES).

Dated: May 23, 2014.
Stephen Guertin,
Director, U.S. Fish and Wildlife Service.

[FR Doc. 2014-14013 Filed 6-13-14; 8:45 am]

BILLING CODE 4310-55-P